DEPARTMENT OF AGRICULTURE

Forest Service

Ashley National Forest, UT, High Uintas Wilderness—Colorado River Cutthroat Trout Habitat Enhancement

AGENCY: Forest Service, USDA.

ACTION: Notice of intent to prepare an environmental impact statement.

SUMMARY: The Ashley National Forest in cooperation with Utah Division of Wildlife Resources (UDWR) proposes to restore genetically pure Colorado River cutthroat trout (CRCT; Onchorhynchus clarki pleuriticus) populations to suitable habitats within the High Uintas Wilderness. Implementation of this proposal would require the use of rotenone (a fish toxicant) to remove competing and hybridizing nonnative fish species from selected streams and lakes within the High Uintas Wilderness on the Roosevelt/Duchesne Ranger District. Nonnative fish species to be removed are primarily brook trout (Salvelinus fontinalis), Yellowstone cutthroat trout (Onchorhynchus clarki bouvieri) and hybridized cutthroat trout. Removal of nonnative fish is necessary to enhance habitat and restore genetically pure CRCT populations to suitable habitats within the High Uintas Wilderness.

Headwater subdrainages and basins proposed to be treated and monitored over a period of ten or more years include selected lakes and associated stream segments in the Garfield Basin and Swasey Hole in the Yellowstone River drainage, Fish Creek (a tributary to Moon Lake), Ottoson Basin and Oweep Creek in the Lake Fork River drainage, and Fall Creek in the Rock Creek drainage.

DATES: Comments concerning the scope of the analysis must be received by August 5, 2010. The draft environmental impact statement is expected February 2011 and the final environmental impact statement is expected June 2011.

ADDRESSES: Send written comments to Ron Brunson, Roosevelt/Duchesne Ranger District, P.O. Box 981, Duchesne, Utah 84021. Comments may also be sent via e-mail to rbrunson@fs.fed.us, or via facsimile to (435) 781-5215.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Ron Brunson at (435) 781-5202 or e-mail rbrunson@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The High Uintas Wilderness contains historic range and some of the most remote and pristine habitat suitable for CRCT. However, nonnative trout species threaten the continued existence of CRCT populations within these headwater basins. Lakes and streams within headwater basins were stategically selected based on essential habitat characteristics. These characteristics primarily include the presence of good spawning habitat which allows the persistance of self-sustaining trout populations and the ability of the selected area to resist re-invasion of nonnative trout species from reaches downstream through the presence of migration barriers.

CRCT are currently cooperatively managed as a conservation species among the states of Colorado, Wyoming and Utah, the U.S. Forest Service (USFS), U.S. Bureau of Land Management (BLM), U.S. Fish and Wildlife Service (USFWS) and the Ute Tribe Fish and Game Department. The CRCT is designated as a species of special concern by Colorado and Wyoming, and a Tier I specie in Utah (those species that are either federally listed or for which a conservation agreement has been implemented). The CRCT is classified as a sensitive species by Regions 2 and 4 of the USFS and by the BLM in Colorado, Wyoming and Utah.

Expanding populations of nonnative brook trout, remnant populations of Yellowstone cutthroat trout and cutthroat trout hybrids continue to threaten populations of native CRCT within the High Uintas Wilderness on the Ashley National Forest. Brook trout continue to displace CRCT within suitable habitat and Yellowstone cutthroat trout and their hybrids threaten genetically pure populations of CRCT with hybridization.

The underlying need for action is to remove competing brook trout and preserve the integrity of genetically pure populations of native CRCT. This would be accomplished by treating lakes and streams within selected drainage basins with the piscicide rotenone to remove the threat of competition and hybridization of nonnative trout. Following treatment of selected waters, CRCT would be reintroduced through stocking of fingerlings obtained from the well developed South Slope brood population maintained in Sheep Creek Lake.

The purpose statement includes goals to be achieved while meeting the need for the project. These goals are used to evaluate alternatives proposed to meet the need. The Forest Service will use the following purposes to select among the alternatives:

• The Forest Service is a partner and signatory to the Colorado River Cutthroat Trout Conservation Agreement and Strategy. This action would help the Forest Service demonstrate support and commitment to Colorado River cutthroat trout conservation efforts.

• Enhances administrative efficiency and cost-effectiveness.

• Avoids and minimizes adverse environmental impacts.

• Provides the potential to achieve the following biological objectives:

○ Preserve genetic integrity and enhance habitat for pure CRCT populations in the High Uintas Wilderness.

○ Eliminate from headwater lakes and their outflow streams, in a timely manner, hybrid cutthroat trout and brook trout that threaten genetic integrity and out compete CRCT.

Proposed Action

The Utah Division of Wildlife Resources in cooperation with the Ashley National Forest propose to implement a long-term strategy to treat selected lakes and streams within the High Uintas Wilderness with piscicide (rotenone) to remove competing and hybridizing nonnative trout species. The proposed project area encompasses three drainages within the High Uintas Wilderness, including the Yellowstone River, Lake Fork River and Rock Creek drainages. Within these drainages, strategically selected lakes and streams would be treated.

Lead and Cooperating Agencies

Utah Division of Wildlife Resources—Cooperating Agency.

Responsible Official

Regional Forester—Intermountain Region (R4)

Nature of Decision To Be Made

The decisions to be made include the approval of proposed activities within the High Uintas Wilderness, the use of piscicides (fish toxicants) within designated wilderness on National Forest System Lands, seasonal and long-term timing of the action and method of transport for materials, equipment, and personnel to treatment areas. Because the majority of lakes and streams occur within wilderness, methodologies and activities selected for implementation must conform to special land use restrictions as much as possible. Based on the environmental analyses presented in this document, the U.S. Forest Service (FS) will decide whether to approve the use of fish toxins within wilderness and whether to approve the short-term use of aircraft, outboard motors, pumps, and mixers in the wilderness area.

Preliminary Issues

• Impacts to quality of fisheries and angling opportunities may be caused by the proposed action. What is the extent and duration of such impacts?

• Will the proposed action affect aquatic-dependent organisms such as plankton, insects, and amphibians? Will threatened, endangered, and sensitive species be impacted?

• How will dead fish impact lake habitat and wildlife?

• Will the use of fish toxins impact water quality in the watershed, including drinking water for humans and animals?

• Is the use of fish toxins appropriate in the management of wilderness areas?

• Should the use of aircraft, outboard motors, or any other motorized/mechanized equipment in wilderness be authorized under the administrative exemption clause to expedite the process?

• What economic impacts will be sustained by commercial outfitters? What will be the short- and long-term effects to the local tourism industry?

Permits or Licenses Required

The proposed use of rotenone takes place on National Forest System (NFS) lands on the Duchesne Ranger District of the Ashley National Forest. Forest Service directives require that use of pesticides on NFS lands be approved by the Forest Service and that a Pesticide Use Proposal be submitted to and approved by the Forest Service.

Scoping Process

This notice of intent initiates the scoping process, which guides the development of the environmental impact statement. In addition, a public notice requesting scoping comments was published in the newspaper of record (Salt Lake Tribune) on May 3, 2010. On April 27, 2010, the Ashley National Forest mailed a scoping letter and a project area map to affected landowners, tribes, concerned citizens, special interest groups, local governments, and any other interested parties to comment on the scope of the proposed action. This information is also available on our Web site http://www.fs.fed.us/r4/ashley/projects/.

It is important that reviewers provide their comments at such times and in such manner that they are useful to the agency's preparation of the environmental impact statement. Therefore, comments should be provided prior to the close of the comment period and should clearly articulate the reviewer's concerns and contentions.

Dated: June 21, 2010.
Kevin B. Elliott,
Forest Supervisor.

[FR Doc. 2010-16325 Filed 7-2-10; 8:45 am]

BILLING CODE 3410-11-P